DEPARTMENT OF HEALTH AND HUMAN SERVICES

National Institutes of Health

Center for Scientific Review; Amended Notice of Meeting

Notice is hereby given of a change in the meeting of the Neurogenesis and Cell Fate Study Section, October 2, 2008, 8 a.m. to October 3, 2008, 4 p.m., Renaissance M Street Hotel, 1143 New Hampshire Avenue, NW., Washington, DC 20037 which was published in the Federal Register on September 9, 2008, 73 FR 52395-52397.

The meeting will be held one day only October 2, 2008, from 8 a.m. to 7 p.m. The meeting location remains the same. The meeting is closed to the public.

Dated: September 11, 2008.
Jennifer Spaeth,
Director, Office of Federal Advisory Committee Policy.

[FR Doc. E8-21881 Filed 9-19-08; 8:45 am]

BILLING CODE 4140-01-M